DEPARTMENT OF TRANSPORTATION

Federal Aviation Administration

14 CFR Part 39

[Docket No. 2002-NM-89-AD]

RIN 2120-AA64

Airworthiness Directives; Empresa Brasileira de Aeronautica S.A. (EMBRAER) Model EMB-135 and -145 Series Airplanes

AGENCY: Federal Aviation Administration, Department of Transportation (DOT).

ACTION: Supplemental notice of proposed rulemaking; reopening of comment period.

SUMMARY: This document revises an earlier proposed airworthiness directive (AD), applicable to certain EMBRAER Model EMB-135 and -145 series airplanes. The proposed AD would have required performing repetitive inspections for cracks, ruptures, or bends in certain components of the elevator control system; replacing discrepant components; and, for certain airplanes, installing a new spring cartridge and implementing new logic for the electromechanical gust lock system. The proposed AD also would have required eventual modification of the elevator gust lock system to replace the mechanical system with an electromechanical system, which would terminate the repetitive inspections. This new action revises the proposed rule by requiring installing a new spring cartridge and implementing new logic for the electromechanical gust lock system on additional airplanes. The actions specified by this new proposed AD are intended to prevent discrepancies in the elevator control system, which could result in reduced control of the elevator and consequent reduced controllability of the airplane. This action is intended to address the identified unsafe condition.

DATES: Comments must be received by October 11, 2005.

ADDRESSES: Submit comments in triplicate to the Federal Aviation Administration (FAA), Transport Airplane Directorate, ANM-114, Attention: Rules Docket No. 2002-NM-89-AD, 1601 Lind Avenue, SW., Renton, Washington 98055-4056. Comments may be inspected at this location between 9 a.m. and 3 p.m., Monday through Friday, except Federal holidays. Comments may be submitted via fax to (425) 227-1232. Comments may also be sent via the Internet using the following address: 9-anm-nprmcomment@faa.gov. Comments sent via fax or the Internet must contain “Docket No. 2002-NM-89-AD” in the subject line and need not be submitted in triplicate. Comments sent via the Internet as attached electronic files must be formatted in Microsoft Word 97 or 2000 or ASCII text.

The service information referenced in the proposed rule may be obtained from Empresa Brasileira de Aeronautica S.A. (EMBRAER), P.O. Box 343—CEP 12.225, Sao Jose dos Campos—SP, Brazil. This information may be examined at the FAA, Transport Airplane Directorate, 1601 Lind Avenue, SW., Renton, Washington.

FOR FURTHER INFORMATION CONTACT: Dan Rodina, Aerospace Engineer, International Branch, ANM-116, FAA, Transport Airplane Directorate, 1601 Lind Avenue, SW., Renton, Washington 98055-4056; telephone (425) 227-2125; fax (425) 227-1149.

SUPPLEMENTARY INFORMATION:

Comments Invited

Interested persons are invited to participate in the making of the proposed rule by submitting such written data, views, or arguments as they may desire. Communications shall identify the Rules Docket number and be submitted in triplicate to the address specified above. All communications received on or before the closing date for comments, specified above, will be considered before taking action on the proposed rule. The proposals contained in this action may be changed in light of the comments received.

Submit comments using the following format:

• Organize comments issue-by-issue. For example, discuss a request to change the compliance time and a request to change the service bulletin reference as two separate issues.

• For each issue, state what specific change to the proposed AD is being requested.

• Include justification (e.g., reasons or data) for each request.

Comments are specifically invited on the overall regulatory, economic, environmental, and energy aspects of the proposed rule. All comments submitted will be available, both before and after the closing date for comments, in the Rules Docket for examination by interested persons. A report summarizing each FAA-public contact concerned with the substance of this proposal will be filed in the Rules Docket.

Commenters wishing the FAA to acknowledge receipt of their comments submitted in response to this action must submit a self-addressed, stamped postcard on which the following statement is made: “Comments to Docket Number 2002-NM-89-AD.” The postcard will be date stamped and returned to the commenter.

Availability of NPRMs

Any person may obtain a copy of this NPRM by submitting a request to the FAA, Transport Airplane Directorate, ANM-114, Attention: Rules Docket No. 2002-NM-89-AD, 1601 Lind Avenue, SW., Renton, Washington 98055-4056.

Discussion

A proposal to amend part 39 of the Federal Aviation Regulations (14 CFR part 39) to add an airworthiness directive (AD), applicable to certain EMBRAER Model EMB-135 and -145 series airplanes, was published as a supplemental notice of proposed rulemaking (NPRM) in the Federal Register on September 22, 2004 (69 FR 56735) (referred to after this as “the first supplemental NPRM”). That action proposed to require performing repetitive inspections for cracks, ruptures, or bends in certain components of the elevator control system; replacing discrepant components; and installing a new spring cartridge and implementing new logic for the electromechanical gust lock system. That action also proposed to require eventual modification of the elevator gust lock system to replace the mechanical system with an electromechanical system, which would terminate the repetitive inspections. The proposed AD was prompted by a report that cracks have been found in certain components of the elevator control system in the horizontal stabilizer area of several airplanes equipped with a mechanical gust lock system. That condition, if not corrected, could result in discrepancies in the elevator control system, which could result in reduced control of the elevator and consequent reduced controllability of the airplane.

Explanation of New Relevant Service Information

EMBRAER has issued Service Bulletin 145-27-0075, Revision 08, dated March 3, 2005. (Paragraph (c)(1) of the first supplemental NPRM refers to EMBRAER Service Bulletin 145-27-0075, Change 06, dated July 16, 2002, as the applicable source of service information for the actions required by that paragraph.) EMBRAER Service Bulletin 145-27-0075, Revision 08, contains a new Part IV (originally added in Revision 07 of the service bulletin, March 2, 2004), which describes procedures for installing a new spring cartridge and implementing new logic for the electromechanical gust lock system. Part IV of EMBRAER Service Bulletin 145-27-0075, Revision 08, refers to EMBRAER Service Bulletins 145-27-0101 (currently at Revision 02, dated December 27, 2004) and 145-27-0102 (currently at Revision 02, dated January 20, 2005) as additional sources of service information. We have revised paragraph (c)(1) in this second supplemental NPRM to require accomplishing EMBRAER Service Bulletin 145-27-0075, Revision 08, for the airplanes listed in that service bulletin. We have added paragraphs (d)(1) and (d)(2) to this supplemental NPRM to give credit for actions accomplished before the effective date of this AD in accordance with Change 06 or Revision 07 of the service bulletin, provided that Part IV of Revision 07 or 08 is done. We have also added a new Note 2 in this second supplemental NPRM to state that EMBRAER Service Bulletin 145-27-0075, Revision 08, refers to EMBRAER Service Bulletins 145-27-0101 and 145-27-0102, which are currently at Revision 02, as additional sources of service information.

EMBRAER has also issued Service Bulletin 145-27-0086, Change 04, dated March 21, 2005. (Paragraph (c)(2) of the first supplemental NPRM refers to EMBRAER Service Bulletin 145-27-0086, Change 02, dated December 23, 2003, as the applicable source of service information for the actions required by that paragraph.) EMBRAER Service Bulletin 145-27-0086, Change 04, describes procedures that are similar to those in Change 02 of that service bulletin. We have revised paragraph (c)(2) of this second supplemental NPRM to refer to EMBRAER Service Bulletin 145-27-0086, Change 04. We have also added paragraph (d)(3) to this supplemental NPRM to state that actions accomplished before the effective date of the AD in accordance with EMBRAER Service 145-27-0086, Change 02, or Change 03, dated April 14, 2004, are acceptable for compliance with paragraph (c)(2) of this supplemental NPRM. We have also revised Note 3 of this second supplemental NPRM to state that EMBRAER Service Bulletin 145-27-0086, Change 04, refers to EMBRAER Service Bulletins 145-27-0101 and 145-27-0102, which are currently at Revision 02, as additional sources of service information.

The Departmento de Aviacao Civil (DAC), which is the airworthiness authority for Brazil, approved EMBRAER Service Bulletin 145-27-0075, Revision 08, and EMBRAER Service Bulletin 145-27-0086, Change 04. The DAC does not intend to revise Brazilian airworthiness directive 2002-01-01R3, dated November 8, 2002 (which the original NPRM and first supplemental NPRM refer to as the parallel Brazilian airworthiness directive), because the actions specified in EMBRAER Service Bulletins 145-27-0101 and 145-27-0102; which have been added to EMBRAER Service Bulletin 145-27-0075, Revision 08, and EMBRAER Service Bulletin 145-27-0086, Change 04; are already required by another Brazilian airworthiness directive, 2003-01-03 R1, dated August 26, 2004. (Also, 2002-01-01R3 refers to EMBRAER Service Bulletin 145-27-0086, Change 01, and EMBRAER Service Bulletin 145-27-0075, Change 06, or further approved revisions, as the acceptable source of service information for certain actions in that airworthiness directive.)

Comments

Interested persons have been afforded an opportunity to participate in the making of this amendment. Due consideration has been given to the comments received.

Request To Allow Installation of Other Replacement Parts

One commenter requests that we revise paragraph (b) of the first supplemental NPRM to remove the reference to replacing a discrepant part of the elevator control system “with a new part having the same part number.” The commenter notes that this does not account for the possibility that part numbers will be revised in future modifications of the elevator control system. The commenter asks that we allow installation of equivalent or superseded parts as listed in the applicable Illustrated Parts Catalog.

We agree with the commenter's request. We have revised paragraph (b) in this second supplemental NPRM to remove the stipulation that a replacement part must have the same part number.

Request To Remove Note 2 of Supplemental NPRM

One commenter requests that we remove the reference, in Note 2 of the first supplemental NPRM, to EMBRAER Service Bulletin 145-22-0007 as an additional source of service information for reworking the control stand. The commenter states that the procedures in that service bulletin are not related to the modifications of the elevator control system and are instead related to rerouting the “go around” wires.

We agree. Paragraph 3.C.(1) of EMBRAER Service Bulletin 145-27-0086, Change 04, states that “To install the new wiring guides and the wiring mountings of the thrust lever ‘go around’ switch, it is necessary that SB 145-22-0007 be accomplished.” (Similarly, paragraph 3.D.(3) of EMBRAER Service Bulletin 145-27-0075, Revision 08, states that, for airplanes with certain control stands, 145-22-0007 “should be accomplished.”) Thus, we included the reference to EMBRAER Service Bulletin 145-22-0007 as a convenience for operators. Upon further review of EMBRAER Service Bulletin 145-27-0086, Change 04; EMBRAER Service Bulletin 145-27-0075, Revision 08; and EMBRAER Service Bulletin 145-22-0007; we have determined that it is not necessary to include the reference to EMBRAER Service Bulletin 145-22-0007 in this AD. The contents of Note 2 of the first supplemental NPRM have not been included in this second supplemental NPRM. We note, however, that if not doing actions specified in EMBRAER Service Bulletin 145-22-0007 results in an inability to comply with proposed requirements of this AD, operators must request approval of an alternative method of compliance (AMOC) for the corresponding requirements of this AD.

Request To Consider AMOC for AD 2002-26-51

One commenter notes that certain requirements proposed in the first supplemental NPRM should be considered an AMOC for requirements of AD 2002-26-51, amendment 39-13008 (68 FR 488, January 6, 2003). That AD applies to certain EMBRAER Model EMB-135 and -145 series airplanes, and requires revising the Limitations section of the Airplane Flight Manual to advise the flightcrew of the possibility of locking of the elevator during takeoff and provides proper procedures to prevent it. The commenter notes that accomplishing EMBRAER Service Bulletin 145-27-0101 (implementation of the new gust lock logic) eliminates the need for these actions.

We agree. We have reviewed the requirements of AD 2002-26-51 and have determined that accomplishing EMBRAER Service Bulletin 145-27-0101 does eliminate the need for the AFM revision required by AD 2002-26-51. Accordingly, we have revised paragraphs (c)(1) and (c)(2)(iv) of this second supplemental NPRM to specify that, after implementing the new gust lock logic, the AFM revision required by AD 2002-26-51 may be removed from the Limitations section of the AFM. In addition, we may consider further rulemaking action in the future to revise AD 2002-26-51 to acknowledge that EMBRAER Service Bulletin 145-27-0101 eliminates the need for the AFM revision required by AD 2002-26-51.

Request To Provide Terminating Action for AD 2003-09-03

Two commenters request that we revise AD 2003-09-03 to specify that accomplishing EMBRAER Service Bulletin 145-27-0086, including EMBRAER Service Bulletin 145-27-0102, terminates the requirements of AD 2003-09-03, amendment 39-13132 (68 FR 22585, April 29, 2003). That AD applies to certain EMBRAER Model EMB-135 and -145 series airplanes and requires repetitive inspections of the spring cartridges of the elevator gust lock system, and corrective action if necessary. The commenters note that replacing the spring cartridges of the elevator gust lock system with new, improved spring cartridges, in accordance with EMBRAER Service Bulletin 145-27-0102, eliminates the potential for jamming of the elevator due to the spring cartridges unscrewing in the gust lock system, which is the unsafe condition that is addressed in AD 2003-09-03. The commenters note that this terminating action has been added to Brazilian airworthiness directive 2003-01-03 R1. (AD 2003-09-03 refers to the original issue of Brazilian airworthiness directive 2003-01-03, dated February 10, 2003, as the parallel Brazilian airworthiness directive.)

We agree with the commenter's request. Accomplishing EMBRAER Service Bulletin 145-27-0102, as specified by EMBRAER Service Bulletin 145-27-0086, Change 04, and EMBRAER Service Bulletin 145-27-0075, Revision 08, as applicable, terminates the requirements of AD 2003-09-03. We have revised paragraphs (c)(1) and (c)(2)(iv) of this second supplemental NPRM to state this. In addition, we may consider further rulemaking action in the future to revise AD 2003-09-03 to include the actions that were added to Brazilian airworthiness directive 2003-01-03 R1.

Request To Consider Alternative Action

One commenter requests that we allow operators an alternative of performing repetitive inspections at intervals not to exceed 500 flight hours instead of installing the new gust lock. The commenter states that the electric gust lock has a higher failure rate than the mechanical lock, so there should be some other solution besides requiring all operators to install an electric gust lock. The commenter also suggests that the manufacturer has sufficient time to develop a method of reinforcing the horizontal stabilizer to correct the problem rather than installing a gust lock system. The commenter also notes that doing the installation will cause airplanes to be out of service for up to a week beyond what is necessary for normal inspections.

We do not agree with the commenter's request to add repetitive inspections as an alternative to replacing the mechanical elevator gust lock system with an electromechanical system. The commenter did not submit data substantiating that repetitive inspections would provide an acceptable level of safety. We can better ensure long-term continued operational safety by modifications or design changes to remove the source of the problem, rather than by repetitive inspections. Long-term inspections may not provide the degree of safety necessary for the transport airplane fleet. This, coupled with a better understanding of the human factors associated with numerous repetitive inspections, has led us to consider placing less emphasis on special procedures and more emphasis on design improvements. The proposed modification requirement is consistent with these considerations. We have not changed this second supplemental NPRM in this regard.

Regarding the commenter's statements that there are deficiencies with the new gust lock system, we are not aware of any deficiencies with this system. We have reviewed the service history of the electric gust lock, and the data do not show a high failure rate. We have not changed this second supplemental NPRM in this regard.

Request To Revise Estimate of Cost Impact

One commenter requests that we revise the Cost Impact estimate for the actions in EMBRAER Service Bulletin 145-27-0086. The commenter notes that the first supplemental NPRM estimates 133 work hours for these actions. The commenter recommends that we consider the 230-work-hour estimate specified in the service bulletin. The commenter also states that this figure doesn't consider other service bulletins that need to be completed along with that service bulletin, which the commenter estimates could run up to 338 work hours.

We do not agree. The 230-work-hour estimate to which the commenter refers includes time for disassembly and assemblage. These are considered incidental costs. We recognize that, in doing the actions required by an AD, operators may incur incidental costs in addition to the direct costs. The cost analysis in AD rulemaking actions, however, typically does not include incidental costs such as the time required to gain access and close up, time necessary for planning, or time necessitated by other administrative actions. Those incidental costs, which may vary significantly among operators, are almost impossible to calculate. The estimate of 133 work hours stated in the first supplemental NPRM is consistent with the estimate provided in the service bulletin when the incidental costs are omitted. We have not changed this second supplemental NPRM in this regard.

Conclusion

Since certain changes described previously expand the scope of the proposed rule, the FAA has determined that it is necessary to reopen the comment period to provide additional opportunity for public comment.

Cost Impact

We estimate that 300 airplanes of U.S. registry would be affected by this proposed AD.

It would take approximately 1 work hour per airplane, per inspection cycle, to accomplish the proposed inspection, at an average labor rate is $65 per work hour. Based on these figures, the cost impact of this proposed action on U.S. operators is estimated to be $19,500, or $65 per airplane, per inspection cycle.

We estimate that 108 airplanes of U.S. registry would be subject to EMBRAER Service Bulletin 145-27-0075, Revision 08. For these airplanes, it would take up to 65 work hours to accomplish the proposed modification in that service bulletin, at an average labor rate of $65 per work hour. Required parts would cost up to $14,000 per airplane. Based on these figures, the cost impact of this proposed action on U.S. operators is estimated to be up to $1,968,300, or $18,225 per airplane.

We estimate that 192 airplanes of U.S. registry would be subject to EMBRAER Service Bulletin 145-27-0086, Change 04. For these airplanes, it would take approximately 133 work hours to accomplish the proposed modification in that service bulletin, at an average labor rate of $65 per work hour. Required parts would cost up to $23,164 per airplane. Based on these figures, the cost impact of this proposed action on U.S. operators is estimated to be up to $6,107,328, or $31,809 per airplane.

The cost impact figures discussed above are based on assumptions that no operator has yet accomplished any of the proposed requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Impact

The regulations proposed herein would not have a substantial direct effect on the States, on the relationship between the national Government and the States, or on the distribution of power and responsibilities among the various levels of government. Therefore, it is determined that this proposal would not have federalism implications under Executive Order 13132.

For the reasons discussed above, I certify that this proposed regulation (1) is not a “significant regulatory action” under Executive Order 12866; (2) is not a “significant rule” under the DOT Regulatory Policies and Procedures (44 FR 11034, February 26, 1979); and (3) if promulgated, will not have a significant economic impact, positive or negative, on a substantial number of small entities under the criteria of the Regulatory Flexibility Act. A copy of the draft regulatory evaluation prepared for this action is contained in the Rules Docket. A copy of it may be obtained by contacting the Rules Docket at the location provided under the caption ADDRESSES.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

Empresa Brasileira De Aeronautica S.A. (EMBRAER): Docket 2002-NM-89-AD.

Applicability: Model EMB-135 and EMB-145 series airplanes, certificated in any category; serial numbers 145001 through 145189 inclusive, 145191 through 145362 inclusive, 145364 through 145373 inclusive, 145375, 145377 through 145411 inclusive, 145413 through 145424 inclusive, 145426 through 145430 inclusive, 145434 through 145436 inclusive, 145440 through 145445 inclusive, 145448, 145450, and 145801; equipped with a mechanical gust lock system.

Compliance: Required as indicated, unless accomplished previously.

To prevent discrepancies in the elevator control system, which could result in reduced control of the elevator and consequent reduced controllability of the airplane, accomplish the following:

Repetitive Inspections

(a) Within 800 flight hours after the effective date of this AD, do a detailed inspection of the elevator control system for any crack, rupture, or bend in any component, in accordance with the Accomplishment Instructions of EMBRAER Service Bulletin 145-27-0087, Change 03, dated September 27, 2002. Where this service bulletin specifies to return discrepant parts and report inspection results to the manufacturer, this AD does not require these actions. Repeat the inspection thereafter at intervals not to exceed 2,500 flight hours or 15 months, whichever is first.

Note 1: For the purposes of this AD, a detailed inspection is defined as: “An intensive visual examination of a specific structural area, system, installation, or assembly to detect damage, failure, or irregularity. Available lighting is normally supplemented with a direct source of good lighting at intensity deemed appropriate by the inspector. Inspection aids such as mirror, magnifying lenses, etc., may be used. Surface cleaning and elaborate access procedures may be required.”

Replacement of Discrepant Parts

(b) If any discrepant part is found during any inspection required by paragraph (a) of this AD, before further flight, replace the discrepant part with a new part, in accordance with the Accomplishment Instructions of EMBRAER Service Bulletin 145-27-0087, Change 03, dated September 27, 2002.

Modification

(c) Within 10,000 flight hours or 60 months after the effective date of this AD, whichever is first, modify the elevator gust lock by accomplishing paragraph (c)(1) or (c)(2) of this AD, as applicable. This modification terminates the repetitive inspections required by paragraph (a) of this AD.

(1) For airplanes listed in EMBRAER Service Bulletin 145-27-0075, Revision 08, dated March 3, 2005: Do paragraph (c)(1)(i) or (c)(1)(ii) of this AD, as applicable, and install a new spring cartridge and implement new logic for the electromechanical gust lock system by doing all actions in section 3.D. (Part IV) of the Accomplishment Instructions of the service bulletin. After accomplishing the actions in EMBRAER Service Bulletin 145-27-0101; as specified in the Accomplishment Instructions of EMBRAER Service Bulletin 145-27-0075, Revision 08; the Airplane Flight Manual (AFM) revision required by AD 2002-26-51, amendment 39-13008, may be removed from the Limitations section of the AFM. Accomplishing the actions specified in the Accomplishment Instructions of EMBRAER Service Bulletin 145-27-0102; as specified by EMBRAER Service Bulletin 145-27-0075, Revision 08; terminates the repetitive inspections required by AD 2003-09-03, amendment 39-13132.

(i) Replace the mechanical gust lock system with an electromechanical gust lock system, and replace the control stand with a reworked control stand, by doing all the actions (including a detailed inspection to ensure that certain parts have been removed previously per EMBRAER Service Bulletin 145-27-0076) in and per section 3.A. (Part I) or 3.B. (Part II) of the Accomplishment Instructions of the service bulletin, as applicable. If the inspection reveals that certain subject parts have not been removed previously, before further flight, remove the subject parts in accordance with the service bulletin. Where Parts I and II of the Accomplishment Instructions of the service bulletin specify to remove and “send the control stand to be reworked in a workshop,” replace the control stand with a control stand reworked as specified in the service bulletin.

(ii) Replace the return spring and spring terminal of the gust lock control lever with improved parts by doing all the actions in and per section 3.C. (Part III) of the Accomplishment Instructions of the service bulletin.

Note 2: Part IV of the Accomplishment Instructions of EMBRAER Service Bulletin 145-27-0075, Revision 08, refers to EMBRAER Service Bulletin 145-27-0101, currently at Revision 02, dated December 27, 2004; and EMBRAER Service Bulletin 145-27-0102, currently at Revision 02, dated January 20, 2005; as additional sources of instructions for accomplishing the installation of a new spring cartridge and implementation of the new logic for the electromechanical gust lock system.

(2) For airplanes listed in EMBRAER Service Bulletin 145-27-0086, Change 04, dated April 14, 2004: Do paragraphs (c)(2)(i), (c)(2)(ii), (c)(2)(iii), and (c)(2)(iv) of this AD, as applicable.

(i) Rework the tail carbon box and the horizontal stabilizer by doing all the actions (including the inspection for delamination) in and per section 3.A. (Part I) of the Accomplishment Instructions of the service bulletin. If any delamination is found that is outside the limits specified in the service bulletin, before further flight, repair per a method approved by either the FAA or the Departmento de Aviacao Civil (or its delegated agent).

(ii) Install wiring and electrical components by doing all the actions in and per section 3.B. (Part II) of the Accomplishment Instructions of the service bulletin.

(iii) Install and activate the electromechanical gust lock system by doing all actions in section 3.D. (Part IV) of the Accomplishment Instructions of the service bulletin. Where Part IV of the Accomplishment Instructions of the service bulletin specifies to remove and “send the control stand to be reworked in a workshop,” replace the control stand with a control stand reworked as specified in Part III of the service bulletin.

(iv) Install a new spring cartridge and implement new logic for the electromechanical gust lock system by doing all actions in section 3.E. (Part V) of the Accomplishment Instructions of the service bulletin, as applicable. After accomplishing the actions in EMBRAER Service Bulletin 145-27-0101; as specified in the Accomplishment Instructions of EMBRAER Service Bulletin 145-27-0086, Change 04; the AFM revision required by AD 2002-26-51, amendment 39-13008, may be removed from the Limitations section of the AFM. Accomplishing the actions in EMBRAER Service Bulletin 145-27-0102; as specified in the Accomplishment Instructions of EMBRAER Service Bulletin 145-27-0086, Change 04; terminates the repetitive inspections required by AD 2003-09-03, amendment 39-13132.

Note 3: Part V of the Accomplishment Instructions of EMBRAER Service Bulletin 145-27-0086, Change 04, refers to EMBRAER Service Bulletin 145-27-0101, currently at Revision 02, dated December 27, 2004; and EMBRAER Service Bulletin 145-27-0102, currently at Revision 02, dated January 20, 2005; as additional sources of instructions for accomplishing the installation of a new spring cartridge and implementation of the new logic for the electromechanical gust lock system.

Actions Accomplished Previously

(d) Actions accomplished before the effective date of this AD are acceptable for compliance with corresponding requirements of this AD as specified in paragraphs (d)(1), (d)(2), and (d)(3) of this AD.

(1) Modification of the elevator gust lock system before the effective date of this AD in accordance with EMBRAER Service Bulletin 145-27-0075, Change 06, dated July 16, 2002, is acceptable for compliance with paragraph (c)(1) of this AD, provided that, within the compliance time specified in paragraph (c) of this AD, a new spring cartridge is installed and new logic for the electromechanical gust lock system is implemented in accordance with Part IV of EMBRAER Service Bulletin 145-27-0075, Revision 07, dated March 2, 2004, or Revision 08, dated March 3, 2005.

(2) Modification of the elevator gust lock system before the effective date of this AD in accordance with EMBRAER Service Bulletin 145-27-0075, Revision 07, dated March 2, 2004, is acceptable for compliance with paragraph (c)(1) of this AD.

(3) Modification of the elevator gust lock system before the effective date of this AD in accordance with EMBRAER Service Bulletin 145-27-0086, Change 02, dated December 23, 2003; or EMBRAER Service Bulletin 145-27-0086, Change 03, dated April 14, 2004; is acceptable for compliance with paragraph (c)(2) of this AD.

Alternative Methods of Compliance

(e) In accordance with 14 CFR 39.19, the Manager, International Branch, ANM-116, Transport Airplane Directorate, FAA, is authorized to approve alternative methods of compliance for this AD.

Note 4: The subject of this AD is addressed in Brazilian airworthiness directive 2002-01-01R3, dated November 8, 2002.

Issued in Renton, Washington, on September 9, 2005.
Ali Bahrami,
Manager, Transport Airplane Directorate, Aircraft Certification Service.

[FR Doc. 05-18793 Filed 9-20-05; 8:45 am]

BILLING CODE 4910-13-P